OFFICE OF PERSONNEL MANAGEMENT

Senior Executive Service—Performance Review Board

AGENCY: Office of Personnel Management.

ACTION: Notice.

SUMMARY: Notice is hereby given of the appointment of members of the OPM Performance Review Board.

FOR FURTHER INFORMATION CONTACT: Carmen Garcia, OPM Human Resources, Office of Personnel Management, 1900 E Street NW, Washington, DC 20415, (202) 606-1048.

SUPPLEMENTARY INFORMATION: Section 4314(c) (1) through (5) of Title 5, U.S.C., requires each agency to establish, in accordance with regulations prescribed by the Office of Personnel Management, one or more SES performance review boards. The board reviews and evaluates the initial appraisal of a senior executive's performance by the supervisor, and considers recommendations to the appointing authority regarding the performance of the senior executive.

The following have been designated as members of the Performance Review Board of the U.S. Office of Personnel Management:

Michael Rigas, Deputy Director, Chair

Kathleen McGettigan, Chief Management Officer

Andrea Bright, Chief Human Capital Officer

Mark Reinhold, Associate Director for Employee Services

Dennis Coleman, Chief Financial Officer

Charles Phalen, National Background Investigations Bureau Director

Kenneth Zawodny, Associate Director for Retirement Services

Alan Spielman, Healthcare and Insurance Director

Office of Personnel Management.
Alexys Stanley,
Regulatory Affairs Analyst.

[FR Doc. 2018-24724 Filed 11-13-18; 8:45 am]

BILLING CODE 6325-45-P